DEPARTMENT OF STATE

[Public Notice 10367]

E.O. 13224 Designation of Katibat al-Imam al-Bukhari, aka Imam Bukhori Jamaat, aka Imam Bukhari Battalion, aka Imam Bukhari Jamaat, aka Imam Al-Bukhari Battalion, aka IBB, aka Imom Buxoriy Katibasi, aka KIB, aka Imam al-Bukhoriy Brigade, aka Katibatul Imom al-Buxoriy as a Specially Designated Global Terrorist

Acting under the authority of and in accordance with section 1(b) of Executive Order 13224 of September 23, 2001, as amended by Executive Order 13268 of July 2, 2002, and Executive Order 13284 of January 23, 2003, I hereby determine that the person known as Katibat al-Imam al-Bukhari, also known as Imam Bukhori Jamaat, also known as Imam Bukhari Battalion, also known as Imam Bukhari Jamaat, also known as Imam Al-Bukhari Battalion, also known as IBB, also known as Imom Buxoriy Katibasi, also known as KIB, also known as Imam al-Bukhoriy Brigade, also known as Katibatul Imom al-Buxoriy, committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: January 17, 2018.
Rex W. Tillerson,
Secretary of State.

[FR Doc. 2018-06172 Filed 3-27-18; 8:45 am]

BILLING CODE 4710-AD-P